DEPARTMENT OF LABOR

Employment and Training Administration

[TA-W-63,979]

Emerson Power Transmission, a Subsidiary of Emerson Electric; Aurora, IL; Notice of Termination of Investigation

Pursuant to Section 221 of the Trade Act of 1974, an investigation was initiated on September 4, 2008, in response to a petition filed by workers at Emerson Power Transmission, a subsidiary of Emerson Electric, Aurora, Illinois.

This petitioner group of workers is covered by an active certification, (TA-W-62,689) which expires on February 27, 2010. Consequently, further investigation in this case would serve no purpose, and the investigation has been terminated.

Signed in Washington, DC this 5th day of September 2008.
Elliott S. Kushner,
Certifying Officer, Division of Trade Adjustment Assistance.

[FR Doc. E8-21318 Filed 9-11-08; 8:45 am]

BILLING CODE 4510-FN-P